DEPARTMENT OF ENERGY

Federal Energy Regulatory Commission

Combined Notice of Filings

Take notice that the Commission has received the following Natural Gas Pipeline Rate and Refund Report filings:

Docket Numbers: RP11-1591-000.

Applicants: Golden Pass Pipeline LLC.

Description: Report Filing: 2020 Penalty Revenue and Costs Report of Golden Pass Pipeline LLC.

Filed Date: 11/16/20.

Accession Number: 20201116-5003.

Comments Due: 5 p.m. ET 11/30/20.

Docket Numbers: RP21-215-000.

Applicants: Equitrans, L.P.

Description: § 4(d) Rate Filing: Negotiated Rate Agreement—Triad Hunter Assignment to SWN—12/1/2020 to be effective 12/1/2020.

Filed Date: 11/16/20.

Accession Number: 20201116-5015.

Comments Due: 5 p.m. ET 11/30/20.

Docket Numbers: RP21-217-000.

Applicants: Rockies Express Pipeline LLC.

Description: § 4(d) Rate Filing: REX 2020-11-16 GT&C Section 3 Revisions to be effective 12/16/2020.

Filed Date: 11/16/20.

Accession Number: 20201116-5059.

Comments Due: 5 p.m. ET 11/30/20.

Docket Numbers: RP21-218-000.

Applicants: Algonquin Gas Transmission, LLC.

Description: § 4(d) Rate Filing: Negotiated Rate—Yankee Gas 510802 Release eff 11-17-2020 to be effective 11/17/2020.

Filed Date: 11/16/20.

Accession Number: 20201116-5076.

Comments Due: 5 p.m. ET 11/30/20.

Docket Numbers: RP21-219-000.

Applicants: Northern Border Pipeline Company.

Description: § 4(d) Rate Filing: NPBL BP Canada NRA Amendment to be effective 8/1/2020.

Filed Date: 11/16/20.

Accession Number: 20201116-5077.

Comments Due: 5 p.m. ET 11/30/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 17, 2020.
Nathaniel J. Davis, Sr.,
Deputy Secretary.

[FR Doc. 2020-25804 Filed 11-20-20; 8:45 am]

BILLING CODE 6717-01-P